ENVIRONMENTAL PROTECTION AGENCY

[FRL-9914-40-Region 8]

Proposed Windfall Lien Settlement Agreement, Eaton Sugar Beet Factory Superfund Site, Eaton, Colorado

AGENCY: Environmental Protection Agency.

ACTION: Notice of proposed agreement; request for public comment.

SUMMARY: In accordance with the requirements of section 122(h)(1) of the Comprehensive Environmental Response Compensation, and Liability Act of 1980, as amended (“CERCLA”), 42 U.S.C. 9622(h)(1), notice is hereby given of the proposed administrative settlement under section 107(r) of CERCLA, 42 U.S.C. 9607(r) between the U.S. Environmental Protection Agency (“EPA”) and the Town of Eaton, Colorado, (“Settling Party”). The Settling Party consents to and will not contest the authority of the United States to enter into this Agreement or to implement or enforce its terms.

The Settling Party, qualifying as a bona fide prospective purchaser as provided for under CERCLA section 107(r)(1), 42 U.S.C. 9607(4)(1), took title to the site of the abandoned Eaton Sugar Beet Factory in 2009 through the purchase of tax liens. The EPA conducted a time critical removal action to address asbestos contamination at the factory site from November of 2011 through April of 2013. EPA now seeks to enter into a settlement agreement for the release of the windfall lien that arose as a result of the asbestos removal action. The value of a windfall lien is limited to the increase in the fair market value of the land that was cleaned up by EPA and is limited also by the amount of the EPA's unrecovered response costs. The increased value of the land owned by the Settling Parties is $226,283.14.

The Settling Parties recognize that this Agreement has been negotiated in good faith and that this Agreement is entered into without the admission or adjudication of any issue of fact or law.

DATES: Comments must be submitted on or before September 22, 2014. For thirty (30) days following the date of publication of this document, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement is available for public inspection at the EPA Superfund Record Center, 1595 Wynkoop Denver, Colorado.

Comments and requests for a copy of the proposed agreement should be addressed to Maureen O'Reilly, Enforcement Specialist, Environmental Protection Agency—Region 8, Mail Code 8ENF-RC, 1595 Wynkoop Street, Denver, Colorado 80202, and should reference the Eaton Sugar Beet Factory Superfund Site, Eaton, Colorado.

FOR FURTHER INFORMATION CONTACT: Andy Lensink, Enforcement Attorney, Legal Enforcement Program, Environmental Protection Agency—Region 8, Mail Code 8ENF-L, 1595 Wynkoop Street, Denver, Colorado 80202, (303) 312-6908.

Dated: July 17, 2014.
Eddie A. Sierra,
Acting Assistant Regional Administrator, Office of Enforcement, Compliance and Environmental Justice, U.S. Environmental Protection Agency, Region VIII.

[FR Doc. 2014-19877 Filed 8-20-14; 8:45 am]

BILLING CODE 6560-50-P